DEPARTMENT OF HEALTH AND HUMAN SERVICES

National Institutes of Health

Center for Scientific Review; Amended Notice of Meeting

Notice is hereby given of a change in the meeting of the Center for Scientific Review Special Emphasis Panel, October 17, 2005, 1 p.m. to October 17, 2005, 2 p.m., National Institutes of Health, 6701 Rockledge Drive, Bethesda, MD 20892 which was published in the Federal Register on September 30, 2005, 70 FR 57304-57305.

The meeting will be held on October 13, 2005. The meeting time and location remain the same. The meeting is closed to the public.

Dated: October 6, 2005.
Anthony M. Coelho, Jr.,
Acting Director, Office of Federal Advisory Committee Policy.

[FR Doc. 05-20740 Filed 10-17-05; 8:45 am]

BILLING CODE 4140-01-M